DEPARTMENT OF THE INTERIOR

Bureau of Land Management

[LLUT9223-13-L13200000-EL000, UTU-89492]

Notice of Invitation to Participate In Coal Exploration License Application UTU-89492, UT

AGENCY: Bureau of Land Management, Interior.

ACTION: Notice.

SUMMARY: All interested-qualified parties are hereby invited to participate with Wasatch Natural Resources on a pro rata cost sharing basis in its program for the exploration of coal deposits owned by the United States of America in Carbon County, Utah.

DATES: The notice of invitation to participate in this coal exploration license was published once each week for two consecutive weeks, in the Sun Advocate (beginning the last week of January 2013), and by virtue of this announcement in the Federal Register. Any person seeking to participate in this exploration program must send written notice to both the Bureau of Land Management (BLM) and Wasatch Natural Resources, as provided in the ADDRESSES section below until no later than May 1, 2013.

ADDRESSES: Copies of the exploration license and plan are available for review from 7:45 a.m. to 4:30 p.m., Monday through Friday, excluding Federal holidays (serialized under the number of UTU-89492) in the public room of the BLM Utah State Office, 440 West 200 South, Suite 500, Salt Lake City, Utah 84101-1345.

The written notice to participate in the exploration program should be sent to Roger Bankert, Bureau of Land Management, Utah State Office, Division of Lands and Minerals, 440 West 200 South, Suite 500, Salt Lake City, Utah 84101-1345 and to Gregory Hunt, Wasatch Natural Resources, 299 South Main Street, Suite 1300, Salt Lake City, Utah 84111.

FOR FURTHER INFORMATION CONTACT: Stan Perkes by telephone 801-539-4036, or by email: sperkes@blm.gov. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The exploration activities will be performed pursuant to the Mineral Leasing Act of 1920, as amended, 30 U.S.C. 201(b), and to the regulations at 43 CFR Part 3410. The purpose of the exploration program is to gain additional geologic knowledge of the coal underlying the exploration area for the purpose of assessing the coal resources. The exploration program is fully described and is being conducted pursuant to an exploration license and plan approved by the BLM. The exploration plan may be modified to accommodate the legitimate exploration needs of persons seeking to participate. The area to be explored includes the following-described lands in Carbon County, Utah:

Salt Lake Meridian, Utah

T. 13 S., R. 7 E.,

Sec. 2, lots 1 through 7 inclusive, S½NE¼, SE¼NW¼, E½SW¼, SE¼;

Sec. 3, lots 1, 2, 5 through 8 inclusive, SW¼NE¼, NW¼SE¼;

Sec. 10, all;

Sec. 11, all;

Sec. 14, all;

Sec. 15, all.

Containing 3,507.84 acres.

The Federal coal within the above-described lands is currently not leased for development of Federal coal resources.

Authority: 43 CFR 3410.2-1(c)(1).

Jenna Whitlock,
Associate State Director.

[FR Doc. 2013-07456 Filed 3-29-13; 8:45 am]

BILLING CODE 4310-DQ-P